MERIT SYSTEMS PROTECTION BOARD

Merit Systems Protection Board (MSPB) Provides Notice of Opportunity To File Amicus Briefs in the Matter of Jeffrey Denton v. Department of Agriculture, MSPB Docket Number DC-3330-09-0696-I-1

AGENCY: Merit Systems Protection Board.

ACTION: Notice.

SUMMARY: Pursuant to 5 U.S.C. 1204(e)(1)(A), the MSPB has requested an advisory opinion from the Director of the Office of Personnel Management (OPM) concerning an appeal currently pending before the Board, Jeffrey Denton v. Department of Agriculture, MSPB Docket Number DC-3330-09-0696-I-1. The MSPB is also providing an opportunity to other interested parties to file amicus briefs concerning the appeal. The legal questions set forth in the Denton appeal, which were posed in the request for an advisory opinion to the Director of OPM, are set forth below.

The agency employs the appellant in the position of Animal Health Program Assistant, GS-5. The agency announced the position of Veterinary Program Assistant (“VPA”), GS-0303-5/6/7, under both case exam (announcement 24VS-2009-0130) and merit promotion (announcement 6VS-2009-0132) procedures. The appellant applied under both vacancy announcements and submitted his DD-214, showing his eligibility for veterans' preference. The appellant made the certificate at the GS-7 level on the case exam announcement. The maximum score an applicant could receive was 100, except when veterans' preference points were added. The appellant had 10 points added to his score of 99.68 to reflect his veterans' preference, and he was thus listed on the top of the certificate of 6 candidates with a score of 109.68 as “CPS,” which is a 30% or more disabled veteran. The appellant also made the GS-6 level on the merit promotion certificate, and he was referred to the selecting official. The agency made no selection from either the case exam or merit promotion certificate. Rather, the agency cancelled both vacancy announcements and filled the VPA position through an alternative hiring authority, the Student Career Experience Program (SCEP).

The appellant filed a complaint with the Department of Labor (DOL) alleging that his rights to veterans' preference as a 30% disabled veteran were violated because the agency filled the position through SCEP instead of filling the position from either the merit promotion or case exam certificate. The DOL informed the appellant that it had completed its investigation into the appellant's claim and had determined that the evidence did not support a finding that the appellant's veterans' preference rights were violated. The DOL provided the appellant with notice of appeal rights to the MSPB.

After exhausting his remedy with DOL, the appellant timely filed an appeal with the MSPB pursuant to the Veterans Employment Opportunities Act (VEOA) alleging that his veterans' preference rights were violated when the agency used SCEP to fill the VPA position and did not select him for that position. The appellant essentially argued that the agency had engaged in a sham. The assigned administrative judge determined that the MSPB has VEOA jurisdiction over the appeal, but issued an initial decision on the merits finding that the appellant did not establish a VEOA violation.

The appellant filed a petition for review with the MSPB challenging the initial decision of the administrative judge. This appeal raises significant issues regarding whether the agency's use of SCEP improperly circumvented the competitive examination process, allowing the agency to avoid its obligations regarding veterans' preference and a veteran's right to compete for positions. The material issues are similar in many respects to the issues raised regarding the Federal Career Intern Program (FCIP) in the MSPB's recent decisions in the appeals of Dean v. Office of Personnel Management, AT-3330-10-0534-I-1 and Evans v. Department of Veterans Affairs, AT-3330-09-0953-I-1, 2010 MSPB 213 (November 2, 2010). The Board determined that appellants Dean and Evans had established the FCIP program as conducted violated their veterans' preference rights because FCIP was inconsistent with 5 U.S.C. 3302(1) by: (1) Allowing agencies to invoke an appointing authority reserved for positions for which it is not practicable to hold a competitive examination after holding a competitive examination yielding highly-qualified preference-eligible candidates; and (2) not requiring agencies to justify placement of positions in the excepted service.

The SCEP program is covered by OPM's regulations at 5 CFR 213.3202(b) and is authorized by Executive Order 12015 (as amended by Executive Order 13024). The FCIP positions are also Schedule B, excepted-service positions but are addressed at 5 CFR 213.3202(o) and Executive Order 13162. The SCEP allows agencies to hire students currently enrolled in specified educational programs in Schedule B, excepted-service positions, and noncompetitively convert them to term, career or career-conditional appointments upon satisfactory completion of the educational program and accumulation of 640 hours of agency work experience.

Questions to be resolved:

1. Does the SCEP program violate veterans' preference rights because it allows agencies to invoke an appointing authority reserved for positions for which it is not practicable to hold a competitive examination after holding a competitive examination yielding highly-qualified preference-eligible candidates?

2. Does the SCEP program violate veterans' preference rights because it does not require agencies to justify placement of positions in Schedule B of the excepted service?

3. What impact, if any, does the Executive Order dated December 27, 2010, entitled “Recruiting and Hiring Students and Recent Graduates,” have on the appellant's appeal or any other appeals based on the SCEP hiring occurring before Executive Order 12015 is revoked?

DATES: All briefs submitted in response to this notice shall be filed with the Clerk of the Board on or before February 7, 2011.

ADDRESSES: All briefs shall be captioned “Jeffrey Denton v. Department of Agriculture,” and entitled “Amicus Brief.” Only one copy of the brief need be submitted. Briefs must be filed with the Office of the Clerk of the Board, Merit Systems Protection Board, 1615 M Street, NW., Washington, DC 20419.

FOR FURTHER INFORMATION CONTACT: Matthew Shannon, Merit Systems Protection Board, Office of the Clerk of the Board, 1615 M Street, NW., Washington, DC 20419; (202) 653-7200; mspb@mspb.gov.

William D. Spencer,
Clerk of the Board.

[FR Doc. 2011-633 Filed 1-12-11; 8:45 am]

BILLING CODE 7400-01-P